DEPARTMENT OF ENERGY

Federal Energy Regulatory Commission

Combined Notice of Filings

Take notice that the Commission has received the following Natural Gas Pipeline Rate and Refund Report filings:

Filings Instituting Proceedings

Docket Numbers: RP13-744-000.

Applicants: Trailblazer Pipeline Company LLC.

Description: Fuel Tracker Filing to be effective 5/1/2013.

Filed Date: 3/29/13.

Accession Number: 20130329-5002.

Comments Due: 5 p.m. ET 4/10/13.

Docket Numbers: RP13-747-000.

Applicants: East Tennessee Natural Gas, LLC.

Description: East Tennessee Natural Gas, LLC submits is cashout report for the period November 2011 through October 2012.

Filed Date: 3/29/13.

Accession Number: 20130329-5062.

Comments Due: 5 p.m. ET 4/10/13.

Docket Numbers: RP13-748-000.

Applicants: Northern Natural Gas Company.

Description: 20130329 Semco Non-conforming to be effective 5/1/2013.

Filed Date: 3/29/13.

Accession Number: 20130329-5089.

Comments Due: 5 p.m. ET 4/10/13.

Docket Numbers: RP13-749-000.

Applicants: Northern Natural Gas Company.

Description: 20130329 Negotiated Rate to be effective 4/1/2013.

Filed Date: 3/29/13.

Accession Number: 20130329-5090.

Comments Due: 5 p.m. ET 4/10/13.

Docket Numbers: RP13-750-000.

Applicants: Kern River Gas Transmission Company.

Description: 2013 Gas Compressor Fuel Report of Kern River Gas Transmission Company.

Filed Date: 3/29/13.

Accession Number: 20130329-5140.

Comments Due: 5 p.m. ET 4/10/13.

Docket Numbers: RP13-751-000.

Applicants: Algonquin Gas Transmission, LLC.

Description: Algonquin Gas Transmission, LLC submits tariff filing per 154.204: Contracting Processes Mar2013 Filing to be effective 5/1/2013.

Filed Date: 3/29/13.

Accession Number: 20130329-5150.

Comments Due: 5 p.m. ET 4/10/13.

Docket Numbers: RP13-752-000.

Applicants: Big Sandy Pipeline, LLC.

Description: Big Sandy Pipeline, LLC submits tariff filing per 154.204: Contracting Processes Mar2013 Filing to be effective 5/1/2013.

Filed Date: 3/29/13.

Accession Number: 20130329-5160.

Comments Due: 5 p.m. ET 4/10/13.

Docket Numbers: RP13-753-000.

Applicants: Maritimes & Northeast Pipeline, L.L.C.

Description: Maritimes & Northeast Pipeline, L.L.C. submits tariff filing per 154.204: Contracting Processes Mar2013 Filing to be effective 5/1/2013.

Filed Date: 3/29/13.

Accession Number: 20130329-5175.

Comments Due: 5 p.m. ET 4/10/13.

Docket Numbers: RP13-754-000.

Applicants: Steckman Ridge, LP.

Description: Steckman Ridge, LP submits tariff filing per 154.204: Contracting Processes Mar2013 Filing to be effective 5/1/2013.

Filed Date: 3/29/13.

Accession Number: 20130329-5181.

Comments Due: 5 p.m. ET 4/10/13.

Docket Numbers: RP13-755-000.

Applicants: Texas Eastern Transmission, LP.

Description: Texas Eastern Transmission, LP submits tariff filing per 154.204: Contracting Proceses Mar2013 Filing to be effective 5/1/2013.

Filed Date: 3/29/13.

Accession Number: 20130329-5184.

Comments Due: 5 p.m. ET 4/10/13.

Docket Numbers: RP13-756-000.

Applicants: Bobcat Gas Storage.

Description: Bobcat Gas Storage submits tariff filing per 154.204: Contracting Processes Mar2013 Filing to be effective 5/1/2013.

Filed Date: 3/29/13.

Accession Number: 20130329-5186.

Comments Due: 5 p.m. ET 4/10/13.

Docket Numbers: RP13-757-000.

Applicants: Egan Hub Storage, LLC.

Description: Egan Hub Storage, LLC submits tariff filing per 154.204: Contracting Processes Mar2013 Filing to be effective 5/1/2013.

Filed Date: 3/29/13.

Accession Number: 20130329-5187.

Comments Due: 5 p.m. ET 4/10/13.

Docket Numbers: RP13-758-000.

Applicants: East Tennessee Natural Gas, LLC.

Description: East Tennessee Natural Gas, LLC submits tariff filing per 154.204: Contracting Processes Mar2013 Filing to be effective 5/1/2013.

Filed Date: 3/29/13.

Accession Number: 20130329-5188.

Comments Due: 5 p.m. ET 4/10/13.

Docket Numbers: RP13-759-000.

Applicants: Ozark Gas Transmission, L.L.C.

Description: Ozark Gas Transmission, L.L.C. submits tariff filing per 154.204: Contracting Processes Mar2013 Filing to be effective 5/1/2013.

Filed Date: 3/29/13.

Accession Number: 20130329-5189.

Comments Due: 5 p.m. ET 4/10/13.

Docket Numbers: RP13-760-000.

Applicants: Saltville Gas Storage Company L.L.C.

Description: Saltville Gas Storage Company L.L.C. submits tariff filing per 154.204: Contracting Processes Mar2013 Filing to be effective 5/1/2013.

Filed Date: 3/29/13.

Accession Number: 20130329-5190.

Comments Due: 5 p.m. ET 4/10/13.

Docket Numbers: RP13-761-000.

Applicants: Colorado Interstate Gas Company, L.L.C.

Description: Colorado Interstate Gas Company, L.L.C. submits tariff filing per 154.204: Non Conforming TSA and Points of Contact Update Filing to be effective 5/1/2013.

Filed Date: 3/29/13.

Accession Number: 20130329-5236.

Comments Due: 5 p.m. ET 4/10/13.

Docket Numbers: RP13-762-000.

Applicants: Transcontinental Gas Pipe Line Company.

Description: Transcontinental Gas Pipe Line Company, LLC submits tariff filing per 154.204: Negotiated Rates—Momentum—Liberty GA to be effective 4/1/2013.

Filed Date: 3/29/13.

Accession Number: 20130329-5239.

Comments Due: 5 p.m. ET 4/10/13.

Docket Numbers: RP13-763-000.

Applicants: ANR Pipeline Company.

Description: ANR Pipeline Company submits tariff filing per 154.601: Integrys_Wisconsin Electric Agmts to be effective 4/1/2013.

Filed Date: 4/1/13.

Accession Number: 20130401-5048.

Comments Due: 5 p.m. ET 4/15/13.

Docket Numbers: RP13-764-000.

Applicants: Petal Gas Storage, L.L.C.

Description: Petal Gas Storage, L.L.C. submits tariff filing per 154.204: Update System Map to be effective 5/1/2013.

Filed Date: 4/1/13.

Accession Number: 20130401-5054.

Comments Due: 5 p.m. ET 4/15/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-574-001.

Applicants: Tennessee Gas Pipeline Company, L.L.C.

Description: Tennessee Gas Pipeline Company, L.L.C. submits tariff filing per 154.203: Multiple Agency Arrangement Option to be effective 3/21/2013.

Filed Date: 3/29/13.

Accession Number: 20130329-5245.

Comments Due: 5 p.m. ET 4/10/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 1, 2013.
Nathaniel J. Davis, Sr.,
Deputy Secretary.

.

[FR Doc. 2013-08058 Filed 4-5-13; 8:45 am]

BILLING CODE 6717-01-P